DEPARTMENT OF COMMERCE

National Oceanic and Atmospheric Administration

50 CFR Part 679

[Docket No. 111213751-2012-02]

RIN 0648-XB038

Fisheries of the Exclusive Economic Zone Off Alaska; Reallocation of Pollock in the Bering Sea and Aleutian Islands; Correction

AGENCY: National Marine Fisheries Service (NMFS), National Oceanic and Atmospheric Administration (NOAA), Commerce.

ACTION: Temporary rule; correction.

SUMMARY: NMFS is correcting a temporary rule that published on February 29, 2012, reallocating the projected unused amounts of pollock directed fishing allowances from the Aleut Corporation and the Community Development Quota from the Aleutian Islands subarea to the Bering Sea subarea directed fisheries. There are errors in the table for the pollock allocation in the Aleutian Island subarea and the Bogoslof District.

DATES: Effective March 14, 2012 through 2400 hrs, A.l.t., December 31, 2012, and is applicable beginning February 29, 2012.

FOR FURTHER INFORMATION CONTACT: Steve Whitney, 907-586-7269.

SUPPLEMENTARY INFORMATION:

Need for Correction

NMFS published a reallocation of the projected unused amount of pollock directed fishing allowances from the Aleut Corporation and from the Community Development Quota from the Aleutian Islands subarea to the Bering Sea subarea directed fisheries, in the Federal Register on Wednesday, February 29, 2012 (77 FR 12214). In Table 3, titled Final 2012 and 2013 Allocations of Pollock TACS to the Directed Pollock Fisheries and to the CDQ Directed Fishing Allowances, there is an error on page 12215 in row 16 of the third column. The 2012 A season directed fishing allowance for the Aleut Corporation is incorrectly specified as “15,500” metric tons (mt), instead of the correct number of “5,000” mt. This correction is necessary because the incorrectly specified number exceeds the Aleut Corporation's annual 2012 directed fishing allowance of 5,000 mt of pollock.

There is also an error on page 12215, row 17, in columns two and six. The 2012 and 2013 Bogoslof District incidental catch allowances (ICAs) were incorrectly specified as “150” mt instead of the correct “500” mt. These corrections are necessary to provide sufficient ICAs.

The Assistant Administrator for Fisheries, NOAA (AA), finds good cause to waive the requirement to provide prior notice and opportunity for public comment pursuant to the authority set forth at 5 U.S.C. 553(b)(B) as such requirement is impracticable and contrary to the public interest. This correction notice makes only minor changes and does not change operating practices in the fisheries. Corrections should be made as soon as possible to avoid confusion for participants in the fisheries.

The AA also finds good cause to waive the 30-day delay in the effective date of this action under 5 U.S.C. 553(d)(3). This finding is based upon the reasons provided above for waiver of prior notice and opportunity for public comment.

Correction

In rule FR Doc. 2012-4836 published on February 29, 2012, (72 FR 12214) make the following corrections:

1. On page 12215, in Table 3, row 16 (the row beginning “Aleut Corporation), column 3, the entry “15,500” is corrected to read “5,000”.

2. Also, in row 17 (the row beginning “Bogoslof District ICA”), in columns two and six, the entry “150” is corrected to read “500”.

The following table is corrected and reprinted in its entirety:

Table 3—Final 2012 and 2013 Allocations of Pollock Tacs to the Directed Pollock Fisheries and to the CDQ Directed Fishing Allowances (DFA) ¹
[Amounts are in metric tons]
Area and sector | 2012 Allocations | 2012 A season ¹: A season DFA | 2012 A season ¹: SCA harvest limit ² | 2012 B season ¹: B season DFA | 2013 Allocations | 2013 A season ¹: A season DFA | 2013 A season ¹: SCA harvest limit ² | 2013 B season ¹: B season DFA
Bering Sea subarea | 1,212,400 | n/a | n/a | n/a | 1,201,900 | n/a | n/a | n/a
CDQ DFA | 121,900 | 48,760 | 34,132 | 73,140 | 120,190 | 48,076 | 33,653 | 72,114
ICA ¹ | 32,400 | n/a | n/a | n/a | 32,451 | n/a | n/a | n/a
AFA Inshore | 529,050 | 211,620 | 148,134 | 317,430 | 524,629 | 209,852 | 146,896 | 314,778
AFA Catcher/Processors ³ | 423,240 | 169,296 | 118,507 | 253,944 | 419,703 | 167,881 | 117,517 | 251,822
Catch by C/Ps | 387,265 | 154,906 | n/a | 232,359 | 384,029 | 153,611 | n/a | 230,417
Catch by CVs ³ | 35,975 | 14,390 | n/a | 21,585 | 35,675 | 14,270 | n/a | 21,405
Unlisted C/P Limit ⁴ | 2,116 | 846 | n/a | 1,270 | 2,099 | 839 | n/a | 1,259
AFA Motherships | 105,810 | 42,324 | 29,627 | 63,486 | 104,926 | 41,970 | 29,379 | 62,956
Excessive Harvesting Limit ⁵ | 185,168 | n/a | n/a | n/a | 183,620 | n/a | n/a | n/a
Excessive Processing Limit ⁶ | 317,430 | n/a | n/a | n/a | 314,778 | n/a | n/a | n/a
Total Bering Sea DFA | 1,058,100 | 423,240 | 296,268 | 634,860 | 1,049,259 | 419,703 | 293,792 | 629,555
Aleutian Islands subarea ¹ | 6,600 | n/a | n/a | n/a | 19,000 | n/a | n/a | n/a
CDQ DFA | 0 | 0 | n/a | 0 | 1,900 | 760 | n/a | 1,140
ICA | 1,600 | 800 | n/a | 800 | 1,600 | 800 | n/a | 800
Aleut Corporation | 5,000 | 5,000 | n/a | 0 | 15,500 | 15,500 | n/a | 0
Bogoslof District ICA ⁷ | 500 | n/a | n/a | n/a | 500 | n/a | n/a | n/a
¹ Pursuant to § 679.20(a)(5)(i)(A), the BS subarea pollock, after subtracting the CDQ DFA (10 percent) and the ICA (3 percent), is allocated as a DFA as follows: inshore sector—50 percent, catcher/processor sector (C/P)—40 percent, and mothership sector—10 percent. In the BS subarea, 40 percent of the DFA is allocated to the A season (January 20-June 10) and 60 percent of the DFA is allocated to the B season (June 10-November 1). Pursuant to § 679.20(a)(5)(iii)(B)(2)(i) and (ii), the annual AI pollock TAC, after subtracting first for the CDQ directed fishing allowance (10 percent) and second the ICA (1,600 mt), is allocated to the Aleut Corporation for a directed pollock fishery. In the AI subarea, the A season is allocated 40 percent of the ABC and the B season is allocated the remainder of the directed pollock fishery.
² In the BS subarea, no more than 28 percent of each sector's annual DFA may be taken from the SCA before April 1. The remaining 12 percent of the annual DFA allocated to the A season may be taken outside of SCA before April 1 or inside the SCA after April 1. If less than 28 percent of the annual DFA is taken inside the SCA before April 1, the remainder will be available to be taken inside the SCA after April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ The Bogoslof District is closed by the final harvest specifications to directed fishing for pollock. The amounts specified are for ICA only and are not apportioned by season or sector.
Note: Seasonal or sector apportionments may not total precisely due to rounding.

Authority: 16 U.S.C. 1801 et seq.

Dated: March 9, 2012.
Steven Thur,
Acting Director, Office of Sustainable Fisheries, National Marine Fisheries Service.

[FR Doc. 2012-6198 Filed 3-13-12; 8:45 am]

BILLING CODE 3510-22-P